DEPARTMENT OF ENERGY

Federal Energy Regulatory Commission

[Docket No. CP17-471-000]

Paiute Pipeline Company; Notice of Availability of the Environmental Assessment for the Proposed 2018 Expansion Project

The staff of the Federal Energy Regulatory Commission (FERC or Commission) has prepared an environmental assessment (EA) for the 2018 Expansion Project (Project) proposed by Paiute Pipeline Company (Paiute) in the above-referenced docket. Paiute requests authorization to construct approximately 8.46 miles of pipeline to upsize or loop four segments of Paiute's Carson and South Tahoe Laterals in Douglas and Lyon Counties and Carson City, Nevada. The Project would provide up to 4,604 dekatherms per day of new natural gas delivery capacity from Paiute's Tuscarora Gas Transmission Company's Interconnect (Tuscarora) at Wadsworth, Nevada to delivery points along Paiute's Carson and South Tahoe Laterals. The requested pipeline facilities would also allow 1,031 dekatherms per day of existing delivery capacity to be shifted from Paiute's Minden/Gardnerville Delivery Point on its Carson Lateral to the South Lake Tahoe City Gate, a point farther downstream on the South Tahoe Lateral.

The EA assesses the potential environmental effects of the construction and operation of the 2018 Expansion Project in accordance with the requirements of the National Environmental Policy Act (NEPA). The FERC staff concludes that approval of the proposed Project, with appropriate mitigating measures, would not constitute a major federal action significantly affecting the quality of the human environment.

The Bureau of Land Management (BLM) and the Consolidated Municipality of Carson City, Nevada (Carson City) participated as cooperating agencies in the preparation of the EA. Cooperating agencies have jurisdiction by law or special expertise with respect to resources potentially affected by the proposal and participate in the NEPA analysis. The BLM intends to adopt and use the EA to consider the issuance of a right-of-way grant for the portion of the project on federal lands.

Specifically, the 2018 Expansion Project would include:

• Construction of 0.42 miles of new 12-inch-diameter pipeline paralleling Paiute's existing South Tahoe Lateral pipeline (Segment 1);

• replacement of 1.58 miles of existing 8-inch-diameter Carson Lateral Loop pipeline with 12-inch-diameter pipeline (Segment 2);

• replacement of 2.27 miles of existing 10-inch-diameter pipeline along Paiute's existing Carson Lateral pipeline with 20-inch-diameter pipeline (Segment 3); and

• construction of 4.19 miles of new 20-inch-diameter pipeline loop paralleling Paiute's existing Carson Lateral pipeline (Segment 4).

The FERC staff mailed copies of the EA to federal, state, and local government representatives and agencies; elected officials; environmental and public interest groups; Native American tribes; potentially affected landowners and other interested individuals and groups; and newspapers and libraries in the project area. In addition, the EA is available for public viewing on the FERC's Web site (www.ferc.gov) using the eLibrary link. A limited number of copies of the EA are available for distribution and public inspection at: Federal Energy Regulatory Commission, Public Reference Room, 888 First Street NE., Room 2A, Washington, DC 20426, (202) 502-8371.

Any person wishing to comment on the EA may do so. Your comments should focus on the potential environmental effects, reasonable alternatives, and measures to avoid or lessen environmental impacts. The more specific your comments, the more useful they will be. To ensure that the Commission has the opportunity to consider your comments prior to making its decision on this project, it is important that we receive your comments in Washington, DC, on or before December 27, 2017.

For your convenience, there are three methods you can use to file your comments with the Commission. In all instances please reference the project docket number (CP17-471-000) with your submission. The Commission encourages electronic filing of comments and has expert staff available to assist you at 202-502-8258 or FercOnlineSupport@ferc.gov.

(1) You can file your comments electronically using the eComment feature located on the Commission's Web site (www.ferc.gov) under the link to Documents and Filings. This is an easy method for submitting brief, text-only comments on a project;

(2) You can also file your comments electronically using the eFiling feature on the Commission's Web site (www.ferc.gov) under the link to Documents and Filings. With eFiling, you can provide comments in a variety of formats by attaching them as a file with your submission. New eFiling users must first create an account by clicking on eRegister. You must select the type of filing you are making. If you are filing a comment on a particular project, please select Comment on a Filing; or

(3) You can file a paper copy of your comments by mailing them to the following address: Kimberly D. Bose, Secretary, Federal Energy Regulatory Commission, 888 First Street NE., Room 1A, Washington, DC 20426.

Any person seeking to become a party to the proceeding must file a motion to intervene pursuant to Rule 214 of the Commission's Rules of Practice and Procedures (18 CFR 385.214).¹ Only intervenors have the right to seek rehearing of the Commission's decision. The Commission grants affected landowners and others with environmental concerns intervenor status upon showing good cause by stating that they have a clear and direct interest in this proceeding which no other party can adequately represent. Simply filing environmental comments will not give you intervenor status, but you do not need intervenor status to have your comments considered.

¹ See the previous discussion on the methods for filing comments.

Additional information about the project is available from the Commission's Office of External Affairs, at (866) 208-FERC, or on the FERC Web site (www.ferc.gov) using the eLibrary link. Click on the eLibrary link, click on General Search, and enter the docket number excluding the last three digits in the Docket Number field (i.e., CP17-471). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets.

This can reduce the amount of time you spend researching proceedings by automatically providing you with notification of these filings, document summaries, and direct links to the documents. Go to www.ferc.gov/docs-filing/esubscription.asp.

Dated: November 27, 2017.
Kimberly D. Bose,
Secretary.

[FR Doc. 2017-26000 Filed 12-1-17; 8:45 am]

BILLING CODE 6717-01-P